DEPARTMENT OF COMMERCE

National Oceanic and Atmospheric Administration

50 CFR Part 300

[Docket No. 030124019-3040-02; I.D. 061903C]

RIN 0648-AQ67

Pacific Halibut Fisheries; Washington Sport Fisheries

AGENCY: National Marine Fisheries Service (NMFS), National Oceanic and Atmospheric Administration (NOAA), Commerce.

ACTION: Inseason action; request for comments.

SUMMARY: NMFS announces changes to the regulations for the Area 2A sport halibut fisheries off the south coast of Washington. This action would change the days of the week open to halibut fishing in the Washington south coast recreational fishing subarea. The purpose of this action is to allow increased access to Washington's south coast recreational halibut quota while monitoring yelloweye rockfish interception.

DATES: Effective 0001 local time, June 27, 2003, through the Federal Register publication of the 2004 specifications and management measures. Comments on this rule will be accepted through July 16, 2003.

ADDRESSES: Submit comments to D. Robert Lohn, Regional Administrator, Northwest Region, NMFS, 7600 Sand Point Way NE, Seattle, WA 98115-0070. This Federal Register document is available on the Government Printing Office's Web site at: http://www.access.gpo.gov/su_docs/aces/aces140.html.

FOR FURTHER INFORMATION CONTACT: Jamie Goen or Yvonne deReynier (NMFS, Northwest Region) 206-526-6140.

SUPPLEMENTARY INFORMATION: The Area 2A Catch Sharing Plan for Pacific halibut off Washington, Oregon, and California is implemented in the annual management measures for the Pacific halibut fisheries published on March 7, 2003 (68 FR 10989, as amended at 68 FR 22323, April 28, 2003 and at 68 FR 23901, May 6, 2003). Those regulations established the 2003 area quota for the south coast of Washington (Queets River, WA to Leadbetter Point, WA) fishery of 48,623 lb (22.1 mt) and the related management measures. The all-depth sport fishery in this area is scheduled for 5 days per week (Sunday through Thursday), and the nearshore fishery is scheduled for 7 days per week.

The pace of the all-depth halibut fishery is anticipated to slow off the south Washington coast, similar to 2002, beginning with the start of the recreational chinook and coho salmon fishery on June 22, which will be open through the earlier of September 14 or quota attainment. In 2002, effort shifted from the sport halibut fishery to the recreational chinook and coho salmon fisheries and a similar shift is expected between these fisheries in 2003.

In 2002, in order to provide more opportunity for the sport halibut fishery to attain their quota for the Washington south coast subarea, an adjustment to the fishing days per week was made inseason (67 FR 46420, July 15, 2002). The sport halibut fishing days were shifted in 2002 from 5 days per week (Sunday through Thursday) to 2 days per week (Friday and Saturday) so as not to coincide with the recreational salmon fishery which was open 5 days per week (Sunday through Thursday). Even with this shift in fishing days to increase opportunity for sport halibut fishing without directly competing with recreational salmon fishing, effort still remained low in the sport halibut fishery. The sport halibut quota was not attained for the south Washington coast subarea in 2002 and 4,221 lb (1.9 mt) remained out of a 42,739 lb (19.4 mt) subarea quota.

Sport halibut catch in the 2003 fishery, as of June 1, 2003, reports 16,593 lb (7.5 mt) of quota remaining out of a 48,623 lb (22.1 mt) quota for the Washington south coast fishery (both all-depth and nearshore). This fishery is scheduled to be open through September 30 or until quota attainment, whichever occurs earlier. Based on data from 2002 and prior years, Washington Department of Fish and Wildlife (WDFW), the agency that directly monitors the sport halibut fishery off Washington's coast, anticipated that the pace of the sport halibut fishery would slow in late June as effort shifted into recreational salmon fisheries. In order to increase opportunity for participation in sport halibut fisheries in the Washington south coast subarea, WDFW recommended to NMFS and the International Pacific Halibut Commission (IPHC) that the all-depth fishery be changed from a 5- days per week fishery (Sunday through Thursday - the same open days as the recreational chinook and coho salmon fisheries) to a 7-days per week fishery. This change would increase the days of the week that a vessel could fish for halibut in the all-depth area to mirror the 7-days per week sport fishery for halibut in the nearshore area. WDFW predicts that most effort in the sport halibut fishery will shift to Friday and Saturday, when there is no opportunity to fish for salmon. However, opening the fishery to 7-days per week allows that flexibility and increased opportunity to attain the 2003 sport halibut quota for this subarea. WDFW is concerned about potential overfished rockfish bycatch in the halibut sport fishery, particularly yelloweye rockfish, and is monitoring recreational fisheries to keep bycatch of yelloweye rockfish below approximately 7,716 lb (3.5 mt) statewide. At the end of May, bycatch of yelloweye rockfish in Washington's recreational fisheries was estimated to be at approximately 2,535 lb (1.15 mt).

Section 25 of the 2003 Pacific halibut regulations provides NMFS with the authority to make certain inseason management changes, provided that the action is necessary to allow allocation objectives to be met, and that the action will not result in exceeding the catch limit for the area. The Catch Sharing Plan's structuring objective for the Washington south coast area is to maximize the season length, while maintaining a quality fishing experience.

The Washington south coast all-depth subarea would be changed from a 5-days per week (Sunday through Thursday) fishery to a 7 days-per week fishery. The purpose of increasing the days per week that may be fished is to improve opportunity for sport halibut quota attainment in the south Washington coast subarea in 2003.

In consultation with the WDFW and the IPHC, NMFS has determined that increasing the fishing days per week in the Washington south coast all-depth subarea to sport halibut fishing 7 days per week meets the Catch Sharing Plan's objective of providing a quality fishing experience without allowing the fishery to exceed the Washington south coast halibut quota. Additionally, this action is not expected to result in bycatch of overfished groundfish species, particularly yelloweye rockfish, above the 3.5 mt set aside for Washington sport fisheries in 2003.

NMFS Action

For the reasons stated above, NMFS announces the following change to the 2003 annual management measures (68 FR 10989, March 7, 2003, as amended at 68 FR 22323, April 28, 2003 and at 68 FR 23901, May 6, 2003) to read as follows:

1. On page 10999, in section 24. Sport Fishing for Halibut, paragraph (4)(b)(iii)(A) in the second column is revised to read as follows:

24. Sport Fishing for Halibut

* * * * *

(A) The fishing season commences on May 1 and continues 5 days a week (Sunday through Thursday) in all waters, and commences on May 1 and continues 7 days a week in the area from Queets River south to 47° 00′00″ N. lat. and east of 124°40′00″ W. long., until June 26. Beginning June 27, the fishing season continues 7 days a week in all waters, including the area from Queets River south to 47°00′00″ N. lat. and east of 124°40′00″ W. long., until 48,623 lb (22.1 mt) are estimated to have been taken and the season is closed by the Commission, or until September 30, whichever occurs first.

* * * * *

Classification

This action is authorized by the regulations implementing the Catch Sharing Plan. The determination to take these actions is based on the most recent data available. The Assistant Administrator for Fisheries, NOAA (AA), has determined that good cause exists for this document to be published without affording a prior opportunity for public comment under 5 U.S.C. 553(b)(B) because doing so would be impracticable and contrary to the public interest. Providing prior notice and opportunity for public comment would be impracticable because it would delay this action and prevent fishers from accessing the 2 additional fishing days per week that do not overlap with the recreational salmon fishery in an effort to attain the Washington south coast halibut quota for 2003. Delaying this action may unnecessarily reduce the likelihood that the sport halibut fishery in the Washington south coast subarea would achieve the Catch Sharing Plan's objective of attaining the 2003 quota. In addition, some public input on this action was already received via teleconference on June 5, 2003, with NMFS, the IPHC, WDFW, and 4 Washington south coast recreational fishing constituents. Delaying this action is contrary to the public interest because it would force anglers to choose between fishing for halibut or fishing for salmon during the same 5 fishing days (Sunday through Thursday), which would reduce the opportunity to participate in both fisheries. For the above reasons, the AA has also determined that good cause exists to waive the delay of effectiveness of this action under 5 U.S.C. 553(d)(3).

Public comments will be received for a period of 15 days after the effectiveness of this action. This action is authorized by Section 25 of the annual management measures for Pacific halibut fisheries published on March 7, 2003 (68 FR 10989), and has been determined to be not significant for purposes of Executive Order 12866.

Authority: Authority: 16 U.S.C. 773-773k.

Dated: June 25, 2003.
Bruce C. Morehead,
Acting Director, Office of Sustainable Fisheries, National Marine Fisheries Service.

[FR Doc. 03-16568 Filed 6-26-03; 2:11 pm]

BILLING CODE 3510-22-S